ENVIRONMENTAL PROTECTION AGENCY

40 CFR Part 52

[EPA-R05-OAR-2010-1001; FRL-9478-4]

Approval and Promulgation of Air Quality Implementation Plans; Indiana; Miscellaneous Metal and Plastic Parts Surface Coating Rules

AGENCY: Environmental Protection Agency (EPA).

ACTION: Direct final rule.

SUMMARY: EPA is approving a revision to the Indiana State Implementation Plan (SIP) submitted by the Indiana Department of Environmental Management (IDEM) on November 24, 2010. The SIP revision consists of amendments to 326 Indiana Administrative Code (IAC) 8-2-1 and 326 IAC 8-2-9, the applicability sections for Indiana's miscellaneous metal and plastic parts surface coating rules. These rules are approvable because they satisfy the requirements of the Clean Air Act (CAA) for volatile organic compound (VOC) reasonably available control technology (RACT) rules.

DATES: This direct final rule will be effective December 12, 2011, unless EPA receives adverse comments by November 14, 2011. If adverse comments are received, EPA will publish a timely withdrawal of the direct final rule in the Federal Register informing the public that the rule will not take effect.

ADDRESSES: Submit your comments, identified by Docket ID No. EPA-R05-OAR-2010-1001, by one of the following methods:

1. http://www.regulations.gov: Follow the on-line instructions for submitting comments.

2. E-mail: aburano.douglas@epa.gov.

3. Fax: (312) 408-2279.

4. Mail: Douglas Aburano, Chief, Control Strategies Section, Air Programs Branch (AR-18J), U.S. Environmental Protection Agency, 77 West Jackson Boulevard, Chicago, Illinois 60604.

5. Hand Delivery: Douglas Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-1001. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Attainment Planning and Maintenance Section, Air Programs Branch (AR-18J), Environmental Protection Agency, Region 5, 77 West Jackson Boulevard, Chicago, Illinois 60604, (312) 886-6052, rosenthal.steven@epa.gov.

SUPPLEMENTARY INFORMATION: Throughout this document whenever “we,” “us,” or “our” is used, we mean EPA. This supplementary information section is arranged as follows:

I. Background

II. What action is EPA taking?

III. Statutory and Executive Order Reviews

I. Background

On February 24, 2010, at 75 FR 8246, EPA approved amendments to 326 IAC 8 into the Indiana SIP to address VOC RACT requirements for the Lake and Porter County portion of the Chicago-Gary-Lake County, IL-IN, 8-hour ozone nonattainment area. These amendments added limits for miscellaneous metal and plastic parts surface coating operations, consistent with EPA's 2008 Control Technique Guideline document for Miscellaneous Metal and Plastic Parts Coating operations. The State's intention was to cover operations located only in Lake and Porter Counties, with the limits specified in Subsection 326 IAC 8-2-9(d). However, the applicability section, 326 IAC 8-2-9(a) did not clearly state that only Lake and Porter County sources were subject to the additional requirements.

In its November 24, 2010, submittal to EPA, IDEM requested that EPA approve amendments to 326 IAC 8-2-1 and 326 IAC 8-2-9 into the state SIP. Specifically, IDEM requested that we approve amendments to the applicability provisions in 326 IAC 8-2-9(a) to clarify that the new VOC limits in subsection (d) apply only to miscellaneous metal and plastic parts surface coating operations in Lake and Porter Counties. IDEM also requested that we approve amendments to the general applicability provisions at 326 IAC 8-2-1(a)(3) and 326 IAC 8-2-1(a)(4) to clarify that the older (in Indiana's SIP prior to February 24, 2010) surface coating requirements in 326 IAC 8-2 continue to apply to miscellaneous metal coating operations outside of Lake and Porter Counties. The revised rules were adopted by the Indiana Air Pollution Control Board on September 1, 2010, and became effective on November 19, 2010. No public comments were received at the hearing held by the state on September 1, 2010.

II. What action is EPA taking?

EPA is approving the state's request to amend the general applicability provisions at 326 IAC 8-2-1(a)(3) and (a)(4) and the applicability provisions in 326 IAC 8-2-9(a).

We are publishing this action without prior proposal because we view this as a noncontroversial amendment and anticipate no adverse comments. However, in the proposed rules section of this Federal Register publication, we are publishing a separate document that will serve as the proposal to approve the state plan if relevant adverse written comments are filed. This rule will be effective December 12, 2011 without further notice unless we receive relevant adverse written comments by November 14, 2011. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 12, 2011.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 12, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Volatile organic compounds.

Dated: September 30, 2011.
Susan Hedman,
Regional Administrator, Region 5.

40 CFR part 52 is amended as follows:

PART 52—[AMENDED]

1. The authority citation for part 52 continues to read as follows:

Authority: 42 U.S.C. 7401 et seq.

Subpart P—Indiana

2. In § 52.770 the table in paragraph (c) is amended by revising the entry for “Article 8. Volatile Organic Compound Rules” to read as follows:

§ 52.770 Identification of plan.

* * * * *

(c) * * *

EPA-Approved Indiana Regulations
Indiana citation | Subject | Indiana effective date | EPA approval date | Notes
* * * * * * *
Article 8. Volatile Organic Compound Rules
Rule 1. General Provisions:
8-1-0.5 | Definitions | 10/18/1995 | 11/3/1999, 64 FR 59642. |
8-1-1 | Applicability | 6/5/1991 | 3/6/1992, 57 FR 8082. |
8-1-2 | Compliance methods | 12/15/2002 | 5/5/2003, 68 FR 23604. |
8-1-3 | Compliance schedules | 5/15/2010 | 4/14/2011, 76 FR 20850. |
8-1-4 | Testing procedures | 7/15/2001 | 9/11/2002, 67 FR 57515. |
8-1-5 | Petition for site-specific reasonably available control technology (RACT) plan | 11/10/1988 | 9/6/1990, 55 FR 36635. |
8-1-6 | New facilities; general reduction requirements | 6/24/2006 | 6/13/2007, 72 FR 32531. |
8-1-7 | Military specifications |  | 10/27/1982, 47 FR 20586. |
8-1-9 | General recordkeeping and reporting requirements | 5/22/1997 | 6/29/1998, 63 FR 35141. |
8-1-10 | Compliance certification, recordkeeping, and reporting requirements for certain coating facilities using compliant coatings | 5/22/1997 | 6/29/1998, 63 FR 35141. |
8-1-11 | Compliance certification, recordkeeping, and reporting requirements for certain coating facilities using daily-weighted averaging | 5/22/1997 | 6/29/1998, 63 FR 35141. |
8-1-12 | Compliance certification, recordkeeping, and reporting requirements for certain coating facilities using control devices | 5/22/1997 | 6/29/1998, 63 FR 35141. |
Rule 2. Surface Coating Emission Limitations:
8-2-1 | Applicability | 11/19/2010 | 10/13/11, [Insert page number where the document begins]. |
8-2-2 | Automobile and light duty truck coating operations | 1/2/2010 | 2/24/2010, 75 FR 8246. |
8-2-3 | Can coating operations |  | 2/10/1986, 51 FR 4912. |
8-2-4 | Coil coating operations |  | 10/27/1982, 47 FR 20586. |
8-2-5 | Paper coating operations | 12/3/2009 | 2/24/2010, 75 FR 8246. |
8-2-6 | Metal furniture coating operations | 12/3/2009 | 2/24/2010, 75 FR 8246. |
8-2-7 | Large appliance coating operations | 12/3/2009 | 2/24/2010, 75 FR 8246. |
8-2-8 | Magnet wire coating operations |  | 10/27/1982, 47 FR 20586. |
8-2-9 | Miscellaneous metal and plastic parts coating operations | 11/19/2010 | 10/13/11, [Insert page number where the document begins]. |
8-2-10 | Flat wood panels; manufacturing operations | 12/3/2009 | 2/24/2010, 75 FR 8246. |
8-2-11 | Fabric and vinyl coating | 10/23/1988 | 3/6/1992, 57 FR 8082. |
8-2-12 | Wood furniture and cabinet coating | 4/10/1988 | 11/24/1990, 55 FR 39141. |
Rule 3. Organic Solvent Degreasing Operations:
8-3-1 | Applicability | 5/27/1999 | 9/14/2001, 66 FR 47887. |
8-3-2 | Cold cleaner operation |  | 10/27/1982, 47 FR 47554. |
8-3-3 | Open top vapor degreaser operation |  | 10/27/1982, 47 FR 47554. |
8-3-4 | Conveyorized degreaser operation |  | 10/27/1982, 47 FR 47554. |
8-3-5 | Cold cleaner degreaser operation and control |  | 3/6/1992, 57 FR 8082. |
8-3-6 | Open top vapor degreaser operation and control requirements |  | 3/6/1992, 57 FR 8082. |
8-3-7 | Conveyorized degreaser operation and control | 6/5/1991 | 3/6/1992, 57 FR 8082. |
8-3-8 | Material requirements for cold cleaning degreasers | 5/27/1999 | 9/14/2001, 66 FR 47887. |
Rule 4. Petroleum Sources:
8-4-1 | Applicability | 5/15/2010 | 4/14/2011, 76 FR 20850. |
8-4-2 | Petroleum refineries |  | 1/18/1983, 48 FR 2127. |
8-4-3 | Petroleum liquid storage facilities |  | 2/10/1986, 51 FR 4912. |
8-4-4 | Bulk gasoline terminals |  | 1/18/1983, 48 FR 2127. |
8-4-5 | Bulk gasoline plants |  | 1/18/1983, 48 FR 2127. |
8-4-6 | Gasoline dispensing facilities | 5/15/2010 | 4/14/2011, 76 FR 20850. |
8-4-7 | Gasoline transports | 11/5/1999 | 5/31/2002, 67 FR 38006. |
8-4-8 | Leaks from petroleum refineries; monitoring; reports | 6/5/1991 | 3/6/1992, 57 FR 8082. |
8-4-9 | Leaks from transports and vapor collection systems; records | 11/5/1999 | 5/31/2002, 67 FR 38006. |
Rule 5. Miscellaneous Operations:
8-5-1 | Applicability of rule | 3/22/2007 | 2/20/2008, 73 FR 9201. |
8-5-2 | Asphalt paving rules |  | 2/10/1986, 51 FR 4912. |
8-5-3 | Synthesized pharmaceutical manufacturing operations | 5/18/1990 | 3/6/1992, 57 FR 8082. |
8-5-4 | Pneumatic rubber tire manufacturing |  | 1/18/1983, 48 FR 2124. |
8-5-5 | Graphic arts operations | 5/22/1997 | 6/29/1998, 63 FR 35141. |
8-5-6 | Fuel grade ethanol production at dry mills | 3/22/2007 | 2/20/2008, 73 FR 9201. |
Rule 6. Organic Solvent Emission Limitations:
8-6-1 | Applicability of rule |  | 1/18/1983, 48 FR 2124. |
8-6-2 | Emission limits; exemptions |  | 1/18/1983, 48 FR 2124. |
Rule 7. Specific VOC Reduction Requirements for Lake, Porter, Clark, and Floyd Counties:
8-7-1 | Definitions | 1/21/1995 | 7/5/1995, 60 FR 34856. |
8-7-2 | Applicability | 1/21/1995 | 7/5/1995, 60 FR 34856. |
8-7-3 | Emission limits | 1/21/1995 | 7/5/1995, 60 FR 34856. |
8-7-4 | Compliance methods | 1/21/1995 | 7/5/1995, 60 FR 34856. |
8-7-5 | Compliance plan | 1/21/1995 | 7/5/1995, 60 FR 34856. |
8-7-6 | Certification, recordkeeping, and reporting requirements for coating facilities | 1/21/1995 | 7/5/1995, 60 FR 34856. |
8-7-7 | Test methods and procedures | 1/21/1995 | 7/5/1995, 60 FR 34856. |
8-7-8 | General recordkeeping and reports | 1/21/1995 | 7/5/1995, 60 FR 34856. |
8-7-9 | Control system operation, maintenance, and testing | 1/21/1995 | 7/5/1995, 60 FR 34856. |
8-7-10 | Control system monitoring, recordkeeping, and reporting | 1/21/1995 | 7/5/1995, 60 FR 34856. |
Rule 8. Municipal Solid Waste Landfills Located in Clark, Floyd, Lake, and Porter Counties:
8-8-1 | Applicability | 1/18/1996 | 1/17/1997, 62 FR 2591. |
8-8-2 | Definitions | 1/18/1996 | 1/17/1997, 62 FR 2591. |
8-8-3 | Requirements; incorporation by reference of federal standards | 1/18/1996 | 1/17/1997, 62 FR 2591. |
8-8-4 | Compliance deadlines | 1/18/1996 | 1/17/1997, 62 FR 2591. |
8-8-8.1 | Municipal Solid Waste Landfills Not Located in Clark, Floyd, Lake, and Porter Counties | 1/18/1996 | 1/17/1997, 62 FR 2591. |
8-8.1-1 | Applicability | 1/18/1996 | 1/17/1997, 62 FR 2591. |
8-8.1-2 | Definitions | 1/18/1996 | 1/17/1997, 62 FR 2591. |
8-8.1-3 | Requirements; incorporation by reference of federal standards | 1/18/1996 | 1/17/1997, 62 FR 2591. |
8-8.1-4 | Compliance deadlines | 1/18/1996 | 1/17/1997, 62 FR 2591. |
8-8.1-5 | Alternative requirements | 1/18/1996 | 1/17/1997, 62 FR 2591. |
Rule 9. Volatile Organic Liquid Storage Vessels:
8-9-1 | Applicability | 1/18/1996 | 1/17/1997, 62 FR 2593. |
8-9-2 | Exemptions | 1/18/1996 | 1/17/1997, 62 FR 2593. |
8-9-3 | Definitions | 1/18/1996 | 1/17/1997, 62 FR 2593. |
8-9-4 | Standards | 1/18/1996 | 1/17/1997, 62 FR 2593. |
8-9-5 | Testing and procedures | 1/18/1996 | 1/17/1997, 62 FR 2593. |
8-9-6 | Recordkeeping and reporting requirements | 1/18/1996 | 1/17/1997, 62 FR 2593. |
Rule 10. Automobile Refinishing:
8-10-1 | Applicability | 8/13/1998 | 12/20/1999, 64 FR 71031. |
8-10-2 | Definitions | 11/2/1995 | 6/13/1996, 61 FR 29965. |
8-10-3 | Requirements | 5/23/1999 | 12/20/1999, 64 FR 71031. |
8-10-4 | Means to limit volatile organic compound emissions | 11/2/1995 | 6/13/1996, 61 FR 29965. |
8-10-5 | Work practice standards | 8/13/1998 | 12/20/1999, 64 FR 71031. |
8-10-6 | Compliance procedures | 8/13/1998 | 12/20/1999, 64 FR 71031. |
8-10-7 | Test procedures | 11/2/1995 | 6/13/1996, 61 FR 29965. |
8-10-8 | Control system operation, maintenance, and monitoring (Repealed) | 11/2/1995 | 6/13/1996, 61 FR 29965. |
8-10-9 | Recordkeeping and reporting | 8/13/1998 | 12/20/1999, 64 FR 71031. |
Rule 11. Wood Furniture Coating:
8-11-1 | Applicability | 1/4/1996 | 10/30/1996, 61 FR 55889. |
8-11-2 | Definitions | 1/4/1996 | 10/30/1996, 61 FR 55889. |
8-11-3 | Emission limits | 1/4/1996 | 10/30/1996, 61 FR 55889. |
8-11-4 | Work practice standards | 1/4/1996 | 10/30/1996, 61 FR 55889. |
8-11-5 | Continuous compliance plan | 1/4/1996 | 10/30/1996, 61 FR 55889. |
8-11-6 | Compliance procedures and monitoring requirements | 1/4/1996 | 10/30/1996, 61 FR 55889. |
8-11-7 | Test procedures | 1/4/1996 | 10/30/1996, 61 FR 55889. |
8-11-8 | Recordkeeping requirements | 1/4/1996 | 10/30/1996, 61 FR 55889. |
8-11-9 | Reporting requirements | 1/4/1996 | 10/30/1996, 61 FR 55889. |
8-11-10 | Provisions for sources electing to use emissions averaging | 1/4/1996 | 10/30/1996, 61 FR 55889. |
Rule 12. Shipbuilding or Ship Repair Operations in Clark, Floyd, Lake, and Porter Counties:
8-12-1 | Applicability | 5/1/1996 | 1/22/1997, 62 FR 3216. |
8-12-2 | Exemptions | 7/15/2001 | 4/1/2003, 68 FR 15664. |
8-12-3 | Definitions | 5/1/1996 | 1/22/1997, 62 FR 3216. |
8-12-4 | Volatile organic compound emissions limiting requirements | 7/15/2001 | 4/1/2003, 68 FR 15664. |
8-12-5 | Compliance requirements | 7/15/2001 | 4/1/2003, 68 FR 15664. |
8-12-6 | Test methods and procedures | 7/15/2001 | 4/1/2003, 68 FR 15664. |
8-12-7 | Recordkeeping, notification, and reporting requirements | 7/15/2001 | 4/1/2003, 68 FR 15664. |
Rule 13. Sinter Plants:
8-13-1 | Applicability | 7/24/1998 | 7/5/2000, 65 FR 41350. |
8-13-2 | Definitions | 7/24/1998 | 7/5/2000, 65 FR 41350. |
8-13-3 | Emission limit | 7/24/1998 | 7/5/2000, 65 FR 41350. |
8-13-4 | Compliance requirements | 7/24/1998 | 7/5/2000, 65 FR 41350. |
8-13-5 | Test procedures | 7/24/1998 | 7/5/2000, 65 FR 41350. |
8-13-6 | Control measure operation, maintenance, and monitoring | 7/24/1998 | 7/5/2000, 65 FR 41350. |
8-13-7 | Recordkeeping and reporting | 7/24/1998 | 7/5/2000, 65 FR 41350. |
8-13-8 | Continuous emissions monitoring | 7/24/1998 | 7/5/2000, 65 FR 41350. |
* * * * * * *

* * * * *

[FR Doc. 2011-26341 Filed 10-12-11; 8:45 am]

BILLING CODE 6560-50-P